FEDERAL MARITIME COMMISSION

[Docket No. 25-13]

American Iron & Metal Company Inc., Complainant v. Priva Logistics Inc., Respondent.; Notice of Filing of Complaint and Assignment

Notice is given that a complaint has been filed with the Federal Maritime Commission (the “Commission”) by American Iron & Metal Company Inc. (the “Complainant”) against Priva Logistics Inc. (the “Respondent”). Complainant states that the Commission has subject-matter jurisdiction over the complaint pursuant to the Shipping Act of 1984, as amended, 46 U.S.C. 40101, et seq., and personal jurisdiction over Respondent as a non-vessel operating common carrier, as defined in 46 U.S.C. 40102(17), and ocean transportation intermediary, as defined in 46 U.S.C. 40102 (20).

Complainant is a corporation organized under the laws of Canada with its principal place of business located in Montreal, Canada.

Complainant identifies Respondent as a corporation organized under the laws of the State of New York with its principal place of business in Hicksville, New York.

Complainant alleges that Respondent violated 46 U.S.C. 41102(c); 41104(a)(10); 46 CFR 545.4; and 545.5. Complainant alleges these violations arose from Respondent's refusal to release sea waybills until payment of charges associated with an unrelated booking, and other acts or omissions by Respondent.

An answer to the complaint must be filed with the Commission within 25 days after the date of service.

The full text of the complaint can be found in the Commission's electronic Reading Room at https://www2.fmc.gov/readingroom/proceeding/25-13/. This proceeding has been assigned to the Office of Administrative Law Judges. The initial decision of the presiding judge shall be issued by July 6, 2026, and the final decision of the Commission shall be issued by January 19, 2027.

(Authority: 46 U.S.C. 41301; 46 CFR 502.61(c))

Served: July 3, 2025.
David Eng,
Secretary.

[FR Doc. 2025-12722 Filed 7-8-25; 8:45 am]

BILLING CODE 6730-02-P